DEPARTMENT OF HEALTH AND HUMAN SERVICES

National Institutes of Health

National Institute of Mental Health; Notice of Meeting

Notice is hereby given of a meeting of the Services Subcommittee of the Interagency Autism Coordinating Committee (IACC).

The purpose of the Services Subcommittee is to review the current state of services and supports for individuals with Autism Spectrum Disorder (ASD) and their families in order to improve these services. The Subcommittee meeting will be closed to the public with attendance limited to IACC members. The Subcommittee will report on its meeting at the next meeting of the IACC on May 12, 2008.

Name of Committee: Interagency Autism Coordinating Committee (IACC).

Type of meeting: Services Subcommittee.

Date: April 30, 2008.

Time: 1 p.m. to 3 p.m.

Agenda: Review the current state of services and supports for individuals with ASD and their families.

Place: National Institutes of Health, Neuroscience Center, 6001 Executive Boulevard, Bethesda, MD 20892-9669. (Telephone Conference Call)

Contact Person: Tanya Pryor, National Institute of Mental Health, NIH, Neuroscience Center, 6001 Executive Boulevard, Room 6198, Bethesda, MD 20892-9669, 301-443-7153, pryort@mail.nih.gov.

Information about the IACC is available on the Web site: http://www.nimh.nih.gov/research-funding/scientific-meetings/recurring-meetings/iacc/index.shtml.

Dated: April 8, 2008.
Jennifer Spaeth,
Director, Office of Federal Advisory Committee Policy.

[FR Doc. E8-8226 Filed 4-16-08; 8:45 am]

BILLING CODE 4140-01-P